DEPARTMENT OF TRANSPORTATION

Federal Aviation Administration

Battery-Based Emergency Power Unit

AGENCY: Federal Aviation Administration (FAA), DOT.

ACTION: Notice of availability and request for public comment.

SUMMARY: This notice announces the availability of, and requests comment on, a proposed Technical Standard Order (TSO) on battery-based emergency power units (BEPU). The TSO prescribes minimum performance standards that BEPU must meet to be identified with the marketing “TSO-C174.”

DATES: Comments must be received on or before March 28, 2005.

ADDRESSES: Send all comments on this proposed TSO to: Technical Programs and Continued Airworthiness Branch, AIR-120, Aircraft Engineering Division, Aircraft Certification Service, Attn: File No. TAO-C174, Federal Aviation Administration, 800 Independence Avenue, SW., Washington, DC 20591.

You may deliver comments to: Federal Aviation Administration, Room 804, 800 Independence Avenue SW., Washington DC 20591.

FOR FURTHER INFORMATION CONTACT: Mr. Lee Nguyen, AIR-120, Room 804, Federal Aviation Administration, 800 Independence Avenue, SW., Washington DC 20591. Telephone (202) 267-9937.

SUPPLEMENTARY INFORMATION:

Comments Invited

You are invited to comment on the proposed TSO by submitting written data, views, or arguments to the above address. Comments received may be examined, both before and after the closing date, in room 804 at the above address, weekdays except federal holidays, between 8:30 a.m. and 4:30 p.m. The Director, Aircraft Certification Service, will consider all comments received on or before the closing date before date before issuing the final TSO

Background

Proposed TSO-C174 prescribes the minimum performance standards for BEPU. The TSO references the standard set forth in the manufacturer's part drawing(s) and applicable part specification(s) submitted with a BEPU manufacturer's application for TSO authorization.

How To Obtain Copies

You can view or download the proposed TSO from its online location at: http://www.airweb.faa.gov/rgl. At this Web page, select “ Technical Standard Orders.” At the TSO page, select “Proposed Orders.”

For a paper copy, contact the person listed in FOR FURTHER INFORMATION CONTACT.

Issued in Washington DC, on February 18, 2005.
Susan J.M. Cabler,
Acting Manager, Aircraft Engineering Division, Aircraft Certification Service.

[FR Doc. 05-3763 Filed 2-25-05; 8:45 am]

BILLING CODE 4910-13-M